DEPARTMENT OF ENERGY

Federal Energy Regulatory Commission

Combined Notice of Filings #1

December 01, 2009.

Take notice that the Commission received the following electric corporate filings:

Docket Numbers: EC10-24-000.

Applicants: Lost Lakes Wind Farm LLC.

Description: Application for Authorization for Disposition of Jurisdictional Facilities and Request for Expedited Action of Lost Lakes Wind Farm LLC.

Filed Date: 11/24/2009.

Accession Number: 20091124-5113.

Comment Date: 5 p.m. Eastern Time on Tuesday, December 15, 2009.

Docket Numbers: EC10-25-000.

Applicants: WPS Canada Generation, Inc., WPS New England Generation, Inc., WPS Power Development LLC, Algonquin Power Fund (America) Inc., Algonquin Power Income Fund.

Description: Joint Application for Authorization of Proposed Transaction Under Section 203 of the Federal Power Act, and Request for Expedited Consideration and Confidential Treatment of WPS New England Generation, Inc., et al.

Filed Date: 11/25/2009.

Accession Number: 20091125-5154.

Comment Date: 5 p.m. Eastern Time on Wednesday, December 16, 2009.

Docket Numbers: EC10-26-000.

Applicants: Grand Ridge Energy II LLC, Grand Ridge Energy III LLC.

Description: Application for Authorization Under Section 203 of the Federal Power Act and Request for Waivers and Expedited Action of Grand Ridge Energy II LLC and Grand Ridge Energy III LLC.

Filed Date: 11/25/2009.

Accession Number: 20091125-5155.

Comment Date: 5 p.m. Eastern Time on Wednesday, December 16, 2009.

Take notice that the Commission received the following electric rate filings:

Docket Numbers: ER96-780-026; ER03-1383-015; ER01-1633-012; ER00-3240-015.

Applicants: Southern Company Services, Inc.; DeSoto County Generating Company, LLC; Southern Company—Florida LLC; Oleander Power Project, LP.

Description: Notice of Non-Material Change in Status of Southern Company Services, Inc., et al.

Filed Date: 11/30/2009.

Accession Number: 20091130-5178.

Comment Date: 5 p.m. Eastern Time on Monday, December 21, 2009.

Docket Numbers: ER97-4257-014.

Applicants: Mid-Power Service Corporation.

Description: Mid Power Service Corporation submits an Amended and Restated Application for authorization to make wholesale sales of energy and capacity at negotiated, market based rates.

Filed Date: 11/16/2009.

Accession Number: 20091123-0190.

Comment Date: 5 p.m. Eastern Time on Monday, December 07, 2009.

Docket Numbers: ER06-1280-005; ER02-556-012.

Applicants: Hess Corporation, Select Energy New York, Inc.

Description: Notice of Change in Status of Hess Corporation, et al.

Filed Date: 11/25/2009.

Accession Number: 20091125-5150.

Comment Date: 5 p.m. Eastern Time on Wednesday, December 16, 2009.

Docket Numbers: ER08-394-025.

Applicants: Midwest Independent Transmission System Operator, Inc.

Description: Midwest Independent Transmission System Operator, Inc. submits compliance filing.

Filed Date: 11/18/2009.

Accession Number: 20091119-0058.

Comment Date: 5 p.m. Eastern Time on Wednesday, December 09, 2009.

Docket Numbers: ER09-980-001.

Applicants: WSPP Inc.

Description: WSPP Inc submits Substitute Original Sheet 90E to Rate Schedule FERC 6.

Filed Date: 11/23/2009.

Accession Number: 20091124-0099.

Comment Date: 5 p.m. Eastern Time on Monday, December 14, 2009.

Docket Numbers: ER09-1382-001.

Applicants: Allegheny Energy Supply Company, LLC.

Description: Allegheny Energy Supply Company, LLC submits First Revised Sheet No 2B.

Filed Date: 11/18/2009.

Accession Number: 20091119-0059.

Comment Date: 5 p.m. Eastern Time on Wednesday, December 09, 2009.

Docket Numbers: ER09-1562-001.

Applicants: Southwest Power Pool, Inc.

Description: Southwest Power Pool, Inc submits a revised executed Service Agreement for Network Integration Transmission Service etc.

Filed Date: 11/23/2009.

Accession Number: 20091124-0096.

Comment Date: 5 p.m. Eastern Time on Monday, December 14, 2009.

Docket Numbers: ER09-1613-001; ER09-1614-001.

Applicants: Florida Power & Light Company.

Description: Florida Power & Light Company refund report for the Interconnection Agreements.

Filed Date: 11/25/2009.

Accession Number: 20091125-5152.

Comment Date: 5 p.m. Eastern Time on Wednesday, December 16, 2009.

Docket Numbers: ER09-1653-001.

Applicants: Tampa Electric Company.

Description: Tampa Electric Company submit Second Revised Sheet 67 et al. to FERC Electric Tariff, Third Revised Volume 4 to be effective 11/24/09.

Filed Date: 11/23/2009.

Accession Number: 20091124-0095.

Comment Date: 5 p.m. Eastern Time on Monday, December 14, 2009.

Docket Numbers: ER09-1673-001.

Applicants: PJM Interconnection, LLC.

Description: PJM Interconnection, LLC submits a minor revision to the Open Access Transmission Tariff in compliance with the Commission's 10/29/09 order in the proceeding.

Filed Date: 11/23/2009.

Accession Number: 20091124-0093.

Comment Date: 5 p.m. Eastern Time on Monday, December 14, 2009.

Docket Numbers: ER10-143-001.

Applicants: Florida Power & Light Company.

Description: Florida Power & Light Company submits the Substitute Original Service Agreement No. 264, Network Integration Transmission Service with the City of Vero Beach, Florida.

Filed Date: 11/24/2009.

Accession Number: 20091125-0142.

Comment Date: 5 p.m. Eastern Time on Tuesday, December 15, 2009.

Docket Numbers: ER10-182-001.

Applicants: PJM Interconnection, LLC.

Description: PJM Interconnection, LLC submits Substitute Sixth Revised Sheet No. 37 et al. to FERC Electric Tariff, Sixth Revised Volume No. 1, to be effective January 1, 2010.

Filed Date: 11/25/2009.

Accession Number: 20091125-0138.

Comment Date: 5 p.m. Eastern Time on Monday, December 07, 2009.

Docket Numbers: ER10-204-002.

Applicants: FSE Blythe 1, LLC.

Description: FSE Blythe 1, LLC submits Second Substitute Original Sheet No 1 et al. to FERC Electric Tariff, Original Volume No 1, effective 11/23/09.

Filed Date: 11/24/2009.

Accession Number: 20091125-0126.

Comment Date: 5 p.m. Eastern Time on Tuesday, December 15, 2009.

Docket Numbers: ER10-236-001.

Applicants: Ohms Energy Company, LLC.

Description: OHMS Energy Company, LLC submits an amendment to petition for acceptance of initial rate filing, FERC Electric Tariff, Original Volume 1.

Filed Date: 11/24/2009.

Accession Number: 20091125-0143.

Comment Date: 5 p.m. Eastern Time on Tuesday, December 15, 2009.

Docket Numbers: ER10-296-000.

Applicants: Garden Wind, LLC.

Description: Request for authorization to sell energy and capacity at market based rates, and waivers of the 60 day notice requirement re Garden Wind, LLC.

Filed Date: 11/23/2009.

Accession Number: 20091125-0041.

Comment Date: 5 p.m. Eastern Time on Monday, December 14, 2009.

Docket Numbers: ER10-297-000.

Applicants: Crystal Lake Wind III, LLC.

Description: Request for authorization to sell energy and capacity at market based rates, and waiver of the 60 day notice requirement re Crystal Lake Wind, LLC.

Filed Date: 11/23/2009.

Accession Number: 20091125-0042.

Comment Date: 5 p.m. Eastern Time on Monday, December 14, 2009.

Docket Numbers: ER10-301-001.

Applicants: Black Hills Power, Inc.; Black Hills Wyoming

Description: Black Hills Power and Black Hills Wyoming submits a corrected version of a page with the corrected date and respectfully request FERC to allow it to be substituted in the Agreement on file.

Filed Date: 11/23/2009.

Accession Number: 20091124-0094.

Comment Date: 5 p.m. Eastern Time on Monday, December 14, 2009.

Docket Numbers: ER10-302-000.

Applicants: Southern California Edison Company.

Description: Southern California Edison Company submit First Revised Sheet 33 et al. to FERC Electric Tariff, First Revised Volume 5 Service Agreement 221 to be effective 1/23/10.

Filed Date: 11/23/2009.

Accession Number: 20091124-0097.

Comment Date: 5 p.m. Eastern Time on Monday, December 14, 2009.

Docket Numbers: ER10-303-000.

Applicants: Midwest Independent Transmission System Operator, Inc.

Description: Midwest Independent Transmission System Operator, Inc. submits Third Revised Interconnection Agreement among Illinois Power Company, et al.

Filed Date: 11/20/2009.

Accession Number: 20091124-0069.

Comment Date: 5 p.m. Eastern Time on Friday, December 11, 2009.

Docket Numbers: ER10-305-000.

Applicants: Xcel Energy Services Inc.

Description: Xcel Energy Services, Inc. submits First Revised Sheet 1 et al. to FERC Electric Tariff, Original Volume 2.

Filed Date: 11/23/2009.

Accession Number: 20091124-0092.

Comment Date: 5 p.m. Eastern Time on Monday, December 14, 2009.

Docket Numbers: ER10-306-000.

Applicants: Florida Power & Light Company.

Description: Florida Power & Light Company submits Interchange Services Agreement between FPL and City of Vero Beach.

Filed Date: 11/23/2009.

Accession Number: 20091124-0081.

Comment Date: 5 p.m. Eastern Time on Monday, December 14, 2009.

Docket Numbers: ER10-307-000.

Applicants: PJM Interconnection, LLC.

Description: PJM Interconnection, LLC submits two executed interconnection service agreements among PJM, Conectiv Delmarva Generation, LLC, and Delmarva Power and Light Company.

Filed Date: 11/23/2009.

Accession Number: 20091124-0082.

Comment Date: 5 p.m. Eastern Time on Monday, December 14, 2009.

Docket Numbers: ER10-308-000.

Applicants: Kleen Energy Systems, LLC.

Description: Kleen Energy Systems, LLC's Application for Market-Based Rate Authority, Related Blanket Waivers and Authorizations and Submission of Initial Rate Schedule.

Filed Date: 11/25/2009.

Accession Number: 20091125-0140.

Comment Date: 5 p.m. Eastern Time on Wednesday, December 16, 2009.

Docket Numbers: ER10-309-000.

Applicants: PJM Interconnection, LLC.

Description: PJM Interconnection, LLC submits an executed interconnection service agreement among PJM et al.

Filed Date: 11/23/2009.

Accession Number: 20091125-0104.

Comment Date: 5 p.m. Eastern Time on Monday, December 14, 2009.

Docket Numbers: ER10-311-000.

Applicants: PJM Interconnection, LLC.

Description: PJM Interconnection, LLC submits an executed interim interconnection service agreement among PJM et al. and a notice of cancellation of an Interim ISA being superseded.

Filed Date: 11/23/2009.

Accession Number: 20091125-0103.

Comment Date: 5 p.m. Eastern Time on Monday, December 14, 2009.

Docket Numbers: ER10-312-000.

Applicants: PJM Interconnection, LLC.

Description: PJM Interconnection, LLC submits an executed interconnection construction service agreement among PJM, et al.

Filed Date: 11/23/2009.

Accession Number: 20091125-0101.

Comment Date: 5 p.m. Eastern Time on Monday, December 14, 2009.

Docket Numbers: ER10-313-000.

Applicants: U.S. Energy Partners LLC.

Description: U.S. Energy Partners LLC submits notice of cancellation.

Filed Date: 11/24/2009.

Accession Number: 20091125-0102.

Comment Date: 5 p.m. Eastern Time on Tuesday, December 15, 2009.

Docket Numbers: ER10-314-000.

Applicants: PacifiCorp.

Description: PacifiCorp submits updated Exhibit 4 to the Amended and Restated Facilities Rental and Wheeling Agreement with Moon Lake Electric Association.

Filed Date: 11/24/2009.

Accession Number: 20091125-0128.

Comment Date: 5 p.m. Eastern Time on Tuesday, December 15, 2009.

Docket Numbers: ER10-315-000.

Applicants: Northeast Utilities Service Company.

Description: Connecticut Light and Power Company et al. submits Localized Cost Responsibility Agreements by and between NU Companies and Waterbury Generation LLC et al.

Filed Date: 11/24/2009.

Accession Number: 20091125-0127.

Comment Date: 5 p.m. Eastern Time on Tuesday, December 15, 2009.

Docket Numbers: ER10-316-000.

Applicants: Midwest Independent Transmission System Operator, Inc.

Description: Midwest ISO submits their proposed clean up filing required by the Commission's Order 714.

Filed Date: 11/24/2009.

Accession Number: 20091125-0130.

Comment Date: 5 p.m. Eastern Time on Tuesday, December 15, 2009.

Docket Numbers: ER10-317-000.

Applicants: Arizona Public Service Company.

Description: Arizona Public Service Corporation submits the Sugarloaf Swithyard Interconnection Agreement with Salt River Project.

Filed Date: 11/24/2009.

Accession Number: 20091125-0125.

Comment Date: 5 p.m. Eastern Time on Tuesday, December 15, 2009.

Docket Numbers: ER10-318-000.

Applicants: Startrans IO, LLC.

Description: Startrans IO, LLC submits revisions to Appendix 1 of its Transmission Owner Tariff, FERC Electric Tariff Original Volume No. 1, effective January 1, 2010.

Filed Date: 11/24/2009.

Accession Number: 20091125-0129.

Comment Date: 5 p.m. Eastern Time on Tuesday, December 15, 2009.

Docket Numbers: ER10-319-000.

Applicants: California Independent System Operator Corporation.

Description: California Independent System Operator Corp submits an amendment to Eligible Intermittent Resource Provisions.

Filed Date: 11/25/2009.

Accession Number: 20091125-0116.

Comment Date: 5 p.m. Eastern Time on Wednesday, December 16, 2009.

Docket Numbers: ER10-320-000.

Applicants: PJM Interconnection, LLC.

Description: PJM Interconnection, LLC submits revisions to Section 3.6.2 Meter Corrections between Market Participants.

Filed Date: 11/25/2009.

Accession Number: 20091125-0115.

Comment Date: 5 p.m. Eastern Time on Wednesday, December 16, 2009.

Docket Numbers: ER10-321-000.

Applicants: Allegheny Energy Supply Company, LLC.

Description: Alleghany Energy Supply Company, LLC submits request for authorization to make wholesale power sales to the Potomac Edison Company.

Filed Date: 11/25/2009.

Accession Number: 20091125-0144.

Comment Date: 5 p.m. Eastern Time on Wednesday, December 16, 2009.

Docket Numbers: ER10-322-000.

Applicants: Northeast Utilities Service Company.

Description: Western Massachusetts Electric Co submits a Notice of Cancellation of Rate Schedule FERC No. 402 and all supplements etc.

Filed Date: 11/24/2009.

Accession Number: 20091125-0141.

Comment Date: 5 p.m. Eastern Time on Tuesday, December 15, 2009.

Take notice that the Commission received the following open access transmission tariff filings:

Docket Numbers: OA08-124-001.

Applicants: Idaho Power Company.

Description: Idaho Power Company submits Substitute First Revised Sheet 64 to FERC Electric Tariff, First Revised Volume 6 modified in accordance with letter order dated 10/29/09 and Order 890-B.

Filed Date: 11/25/2009.

Accession Number: 20091125-0139.

Comment Date: 5 p.m. Eastern Time on Wednesday, December 16, 2009.

Take notice that the Commission received the following electric reliability filings:

Docket Numbers: RR10-5-000.

Applicants: North American Electric Reliability Corporation.

Description: Petition of the North American Electric Reliability Corporation for Approval of Proposed Revisions to the Bylaws of Southwest Power Pool, Inc.

Filed Date: 12/01/2009.

Accession Number: 20091201-5093.

Comment Date: 5 p.m. Eastern Time on Tuesday, December 22, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-29275 Filed 12-8-09; 8:45 am]

BILLING CODE 6717-01-P